FEDERAL RESERVE SYSTEM

Agency Information Collection Activities: Announcement of Board Approval Under Delegated Authority and Submission to OMB

SUMMARY:

Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT:

Federal Reserve Board Clearance Officer—Michelle Shore—Division of Research and Statistics, Board of Governors of the Federal Reserve System, Washington, DC 20551 (202-452-3829)

OMB Desk Officer-Shagufta Ahmed —Office of Information and Regulatory Affairs, Office of Management and Budget, New Executive Office Building, Room 10235, Washington, DC 20503.

Final Approval Under OMB Delegated Authority of the Extension for Three Years, With Revision, of the Following Reports

1. Report Title: Quarterly Report of Assets and Liabilities of Large Foreign Offices of U.S. Banks.

Agency Form Number: FR 2502q.

OMB Control Number: 7100-0079.

Frequency: Quarterly.

Reporters: Large foreign branches and banking subsidiaries of U.S. depository institutions.

Annual Reporting Hours: 1,176 hours.

Estimated Average Hours per Response: 3.5 hours.

Number of Respondents: 84.

General Description of Report: This information collection is required (12 U.S.C. 248(a) (2), 353 et seq., 461, 602, and 625) and is given confidential treatment (5 U.S.C. 552(b) (4)).

Abstract: This reporting form collects data quarterly on the geographic distribution of the assets and liabilities of major foreign branches and subsidiaries of U.S. commercial banks and of Edge and agreement corporations. Data from this reporting form comprise a piece of the flow of funds data that are compiled by the Federal Reserve.

Current Actions: On December 23, 2008, the Federal Reserve published a notice in the Federal Register (73 FR 78797) requesting public comment for 60 days on the proposal to extend, with revision, the FR 2502q. The comment period for this notice expired on February 23, 2009. The Federal Reserve received one comment from a Federal agency describing its use of the data to prepare economic account information and estimates of international transactions. The revisions will be implemented as proposed.

2. Report Title: Recordkeeping Requirements of Regulation H and Regulation K Associated with Bank Secrecy Act Compliance Programs.

Agency Form Number: Reg K.

OMB Control Number: 7100-0310.

Frequency: Annually.

Reporters: State member banks; Edge and agreement corporations; and U.S. branches, agencies, and other offices of foreign banks supervised by the Federal Reserve.

Annual Reporting Hours: 3,592 hours.

Estimated Average Hours per Response: Establish compliance program, 16 hours; and maintenance of compliance program, 4 hours.

Number of Respondents: Establish compliance program, 13; and maintenance of compliance program, 1,173.

General Description of Report: This information collection is mandatory pursuant to the Bank Secrecy Act (BSA) (31 U.S.C. 513(h)). In addition, sections 11, 21, 25, and 25A of the Federal Reserve Act (12 U.S.C. 248(a), 483, 602, and 611(a)) authorize the Federal Reserve to require the information collection and recordkeeping requirements set forth in Regulations K and H. Section 5 of the Bank Holding Company Act (12 U.S.C. 1844) and section 13(a) of the International Banking Act (12 U.S.C. 3108(a)) provide further authority for sections 211.5(m) and 211.24(j)(1) of Regulation K. Since the Federal Reserve does not collect any information, no issue of confidentiality normally arises. However, if a BSA compliance program becomes a Federal Reserve record during an examination, the information may be protected from disclosure under exemptions (b)(4) and (8) of the Freedom of Information Act (5 U.S.C. 552(b)(4) and (b)(8)).

Abstract: Sections 211.5(m)(1) and 211.24(j)(1) of Regulation K require Edge and agreement corporations and U.S. branches, agencies, and other offices of foreign banks supervised by the Federal Reserve to establish and maintain procedures reasonably designed to ensure and monitor compliance with the BSA and related regulations.

Current Actions: On December 23, 2008, the Federal Reserve published a notice in the Federal Register (73 FR 78797) requesting public comment for 60 days on the proposal to extend, with revision, the Recordkeeping Requirements of Regulation H and Regulation K Associated with Bank Secrecy Act Compliance Programs. The comment period for this notice expired on February 23, 2009. No comments were received. The revisions will be implemented as proposed.

3. Report Title: Weekly Report of Selected Assets and Liabilities of Domestically Chartered Commercial Banks and U.S. Branches and Agencies of Foreign Banks.

Agency Form Number: FR 2644.

OMB Control Number: 7100-0075.

Frequency: Weekly.

Reporters: Domestically chartered commercial banks and U.S. branches and agencies of foreign banks.

Annual Reporting Hours: 120,575 hours.

Estimated Average Hours per Response: 2.65 hours.

Number of Respondents: 875.

General Description of Report: The FR 2644 is authorized by section 2A and 11(a)(2) of the Federal Reserve Act (12 U.S.C. 225(a) and 248(a)(2)) and by section 7(c)(2) of the International Banking Act (12 U.S.C. 3105(c)(2)) and is voluntary. Individual respondent data are regarded as confidential under the Freedom of Information Act (5 U.S.C. 552(b)(4)).

Abstract: The Weekly Report of Assets and Liabilities for Large U.S. Branches and Agencies of Foreign Banks (FR 2069; OMB No. 7100-0030), the Weekly Report of Assets and Liabilities for Large Banks (FR 2416; OMB No. 7100-0075), and the Weekly Report of Selected Assets (FR 2644; OMB No. 7100-0075) are referred to collectively as the bank credit reports. These three voluntary reports have been the primary source of high-frequency data used in the analysis of current banking developments. The FR 2416 data are used on a stand-alone basis to construct the large domestically chartered bank series. The other two reports collect sample data that are used to estimate universe levels using data from the quarterly commercial bank Consolidated Reports of Condition and Income (FFIEC 031 and 041; OMB No. 7100-0036) and the Report of Assets and Liabilities of U.S. Branches and Agencies of Foreign Banks (FFIEC 002; OMB No. 7100-0032) (Call Reports). Data from all three bank credit reports, together with data from other sources, are used to construct weekly estimates of bank credit, balance sheet data for the U.S. banking industry, sources and uses of banks' funds, and to analyze banking developments.

The Federal Reserve publishes the data in aggregate form in the weekly H.8 statistical release, Assets and Liabilities of Commercial Banks in the United States, which is followed closely by other government agencies, the banking industry, the financial press, and other users. This release provides a balance sheet for the banking industry as a whole and data disaggregated by its large domestically chartered, small domestically chartered, and foreign-related components.

Current Actions: On December 15, 2008, the Federal Reserve published a notice in the Federal Register (73 FR 76027) requesting public comment for 60 days on the extension, with revision, of the FR 2644. The comment period for this notice expired on February 13, 2009. The Federal Reserve received two comment letters, one from a U.S. Government agency and one from a commercial bank. One commenter supported the proposed changes and described its use of the data in constructing a component of personal outlays in the national income and product accounts. One commenter stated that investment and loan information would be difficult to obtain on a weekly basis. After considering these comments, the Federal Reserve has approved the revisions to the FR 2644 as originally proposed. The new FR 2644 reporting form and instructions are available on the Federal Reserve's public Web site (http://www.federalreserve.gov/reportforms/review.cfm).

Effective Date: The FR 2644 reporting form change is effective for data reported as of Wednesday, July 1, 2009. Respondents should continue to use their current reporting form and instructions through the preceding date, Wednesday, June 24, 2009.

Final Approval, Under OMB Delegated Authority, of the Discontinuance of the Following Reports

Report Title: The Weekly Report of Assets and Liabilities for Large U.S. Branches and Agencies of Foreign Banks; the Weekly Report of Assets and Liabilities for Large Banks.

Agency Form Number: FR 2069; FR 2416.

OMB Control Number: 7100-0030; 7100-0075.

Frequency: Weekly.

Reporters: U.S. branches and agencies of foreign banks; Domestically chartered commercial banks.

Annual Reporting Hours: FR 2069, 14,560 hours; FR 2416, 22,386 hours.

Estimated Average Hours per Response: FR 2069, 4.00 hours; FR 2416, 8.61 hours.

Number of Respondents: FR 2069, 70; FR 2416, 50.

Current Actions: On December 15, 2008, the Federal Reserve published a notice in the Federal Register (73 FR 76027) requesting public comment for 60 days on the discontinuance of the FR 2069 and FR 2416. The comment period for this notice expired on February 13, 2009. No comments were received. The reports will be discontinued as proposed. The new FR 2644 reporting form and instructions are available on the Federal Reserve's public Web site (http://www.federalreserve.gov/reportforms/review.cfm).

Effective Date: The FR 2069 and FR 2416 reporting forms will be discontinued effective Wednesday, July 1, 2009. Respondents should continue to use their current reporting form and instructions through the preceding date, Wednesday, June 24, 2009. Beginning July 1, 2009, all bank credit respondents should file the FR 2644 reporting form.

Final Approval Under OMB Delegated Authority To Conduct the Following Survey

Report Title: 2010 Survey of Consumer Finances (SCF).

Agency Form Number: FR 3059.

OMB Control Number: 7100-0287.

Frequency: One-time survey.

Reporters: U.S. families.

Annual Reporting Hours: 9,322 hours.

Estimated Average Hours per Response: Business pretest, 15 minutes; and Main pretest, Main survey, Re-interview 1, and Re-interview 2, 75 minutes each.

Number of Respondents: Business pretest, 30; Main pretest, 150; Main survey, 7,000; Re-interview 1, 150; and Re-interview 2, 150.

General Description of Report: This information collection is voluntary (12 U.S.C. 225a and 263). The names and other characteristics that would directly identify respondents would be retained by the Federal Reserve's contractor and are exempt from disclosure pursuant to the Confidential Information Protection and Statistical Efficiency Act and section (b)(3) of the Freedom of Information Act (5 U.S.C. 552 (b)(3)).

Abstract: For many years, the Federal Reserve has sponsored consumer surveys to obtain information on the financial behavior of households. The 2010 SCF would be the latest in a triennial series, which began in 1983, that provides comprehensive data for U.S. families on the distribution of assets and debts, along with related information and other data items necessary for analyzing financial behavior. The SCF is the only survey conducted in the United States that provides such financial data for a representative sample of households.

Current Actions: On December 23, 2008, the Federal Reserve published a notice in the Federal Register (73 FR 78797) requesting public comment for 60 days on the proposal to conduct the Survey of Consumer Finances. The comment period for this notice expired on February 23, 2009. No comments were received. The survey will be conducted as proposed.

Board of Governors of the Federal Reserve System, March 9, 2009.
Jennifer J. Johnson,
Secretary of the Board.

[FR Doc. E9-5335 Filed 3-11-09; 8:45 am]

BILLING CODE 6210-01-P